DEPARTMENT OF AGRICULTURE

Forest Service

Grand Mesa, Uncompahgre and Gunnison National Forests; CO; Establishment of Fees for Forest Cabin Rental Program

AGENCY: Forest Service, USDA.

ACTION: Notice of new fee site and solicitation of comments.

SUMMARY: The Grand Mesa, Uncompahgre and Gunnison (GMUG) National Forests proposes to begin charging fees for the overnight rental of several cabins including 3 cabins at the Cold Springs Adminstrative Site; 2 cabins at the Mesa Lakes Administrative Site and single cabins at 25 Mesa, Silesca, and Jackson Administrative Sites. Public rentals of Forest Service cabins in other parts of Colorado is very popular and shows that the public appreciates and enjoys the use and availability of historic rental cabins. Funds from the rentals will be used for the continued operation and maintenance of the rental cabins. The Cold Springs Adminstrative Site is located in T 51N, R16, Section 29 and the Mesa Lakes Administrative Site is located in T11S, R96W, Section 34 on the Grand Valley Ranger District. The 25 Mesa Cabin is located in T49N, R13W, Section 6, the Silesca Cabin is located in T47N, R11W, Section 18, and the Jackson Cabin is located in T46N, R6W, Section 28; all three are located on the Ouray Ranger District.

DATES: The sites are expected to become available for rent May 2008. Comments, concerns or questions about this new fee must be submitted by January 30, 2008.

ADDRESSES: Submit written comments, concerns, or questions about the new fee for cabin rentals to: Grand Mesa, Uncompahgre and Gunnison National Forests, Attn: Cabin Rental Program, 2250 Highway 50, Delta, Colorado, 81416.

FOR FURTHER INFORMATION CONTACT: Connie Clementson, Grand Valley District Ranger 970—242-8211, or Tammy Randall-Parker, Ouray District Ranger 970-240-5415.

SUPPLEMENTARY INFORMATION: The Federal Lands Recreation Enhancement Act (Title VIII, Pub. L. 108-447) directed the Secretary of Agriculture to publish a six month advance notice in the Federal Register whenever new recreation fee areas are established. The intent of this notice is to give the public an opportunity to comment if they have concerns or questions about new fees.

This is the GMUG National Forest's first cabin rental opportunity. Other cabin rentals exist in neighboring national forests in Colorado. The cabins in Colorado are often fully booked throughout their rental season. The GMUG National Forest proposes to rent the cabins for $40 to $180 a night, but will conduct a market analysis to determine if the fees are both reasonable and acceptable for this unique recreation experience. People wanting to rent the cabins will need to make advanced reservations through the National Recreation Reservation Service at http://www.Recreation.gov or by calling 1-877-444-6777. The National Recreation Reservation Service charges a fee for reservations.

Dated: December 17, 2007.
Kendall Clark,
Deputy Forest Supervisor.

[FR Doc. E7-24840 Filed 12-20-07; 8:45 am]

BILLING CODE 3410-11-P